DEPARTMENT OF STATE

[Public Notice: 11758]

Review of the Designation as Foreign Terrorist Organizations of al-Qa'ida in the Arabian Peninsula (and Other Aliases)

Based upon a review of the Administrative Record assembled pursuant to Section 219(a)(4)(C) of the Immigration and Nationality Act, as amended (8 U.S.C. 1189(a)(4)(C)) (“INA”), and in consultation with the Attorney General and the Secretary of the Treasury, I conclude that the circumstances that were the bases for the designation of the aforementioned organization as a Foreign Terrorist Organization have not changed in such a manner as to warrant revocation of the designation and that the national security of the United States does not warrant a revocation of the designation.

Therefore, I hereby determine that the designation of the aforementioned organization as a Foreign Terrorist Organization, pursuant to Section 219 of the INA (8 U.S.C. 1189), shall be maintained.

This determination shall be published in the Federal Register.

Dated: May 17, 2022.
Antony J. Blinken,
Secretary of State.

[FR Doc. 2022-12356 Filed 6-8-22; 8:45 am]

BILLING CODE 4710-AD-P